DEPARTMENT OF HOMELAND SECURITY

Federal Emergency Management Agency

[Docket ID: FEMA-2024-0026]

Notice of Availability for Safe Room Construction, Supplemental Programmatic Environmental Assessment

AGENCY: Federal Emergency Management Agency, Department of Homeland Security (DHS).

ACTION: Notice of availability; request for comment.

SUMMARY: The Federal Emergency Management Agency (FEMA) has prepared a Supplemental Programmatic Environmental Assessment (SPEA) to reevaluate the analysis provided in the 2011 Final Programmatic Environmental Assessment (PEA) for Safe Room Construction and Finding of No Significant Impact (FONSI). The SPEA includes a reevaluation of the environmental analysis and underlying assumptions of the 2011 PEA. The proposed action includes the nationwide construction, retrofit, or renovation of safe rooms eligible for FEMA grant funding. FEMA has made a preliminary determination in the SPEA that the FONSI determination is valid after incorporating the updated analysis and revisions contained in the SPEA.

DATES: Substantive comments must be submitted on or before January 21, 2025 to be assured consideration.

ADDRESSES: Interested persons may submit comments responsive to this notice electronically through the Federal eRulemaking Portal at https://www.regulations.gov. All submissions received must include the Agency name and Docket ID. Regardless of the method used for submitting comments or material, all submissions will be posted, without change, to the Federal eRulemaking Portal at https://www.regulations.gov, and will include any personal information you provide. Therefore, submitting this information makes it public. You may wish to read the Privacy and Security Notice that is available via a link on the homepage of https://www.regulations.gov.

FEMA will address comments received on the draft SPEA in a final SPEA. The final SPEA and FONSI will be posted to the FEMA NEPA Repository website using the same weblink as the 2011 PEA and FONSI at: https://www.fema.gov/emergency-managers/practitioners/environmental-historic/nepa/programmatic-environmental-34.

FOR FURTHER INFORMATION CONTACT: Portia Ross, FEMA Environmental Officer, Office of Environmental Planning and Historic Preservation, Resilience, 202-212-5929, FEMA-OEHP-Policy-Branch@fema.dhs.gov.

SUPPLEMENTARY INFORMATION: FEMA is seeking public comment regarding its preliminary determination that no significant environmental impacts are anticipated from the proposed action, based on FEMA's reevaluation of the 2011 PEA for Safe Room Construction. FEMA invites the public to submit comments through https://www.regulations.gov during the 30-day comment period following the publication of this notice in the Federal Register. The 2011 PEA and 2024 SPEA are available in docket ID FEMA-2024-0026. For access to the docket, go to https://www.regulations.gov and search for the docket ID.

The supplemental reevaluation process, which is documented by the SPEA, indicates that no potential significant adverse environmental impacts are anticipated from the proposed action. Based on the supplemental environmental impact analysis in the SPEA, FEMA has determined that no significant environmental impacts are anticipated from the construction, retrofit, or renovation of eligible safe room projects and the proposed action does not constitute a major Federal action significantly affecting the quality of the human environment, making the preparation of an Environmental Impact Statement (EIS) unnecessary. Therefore, FEMA will issue a final SPEA and FONSI.

Authorities: National Environmental Policy Act (NEPA), as amended, 42 U.S.C. 4331 et seq. and 40 CFR 1500.1 et seq.

Donna DeFrancesco,
Assistant Administrator, Office of Environmental Planning and Historic Preservation, Resilience, Federal Emergency Management Agency, Department of Homeland Security.

[FR Doc. 2024-30272 Filed 12-18-24; 8:45 am]

BILLING CODE 9111-23-P